DEPARTMENT OF TRANSPORTATION

Federal Aviation Administration

[Docket No. 2120-0076]

Agency Information Collection Activities: Requests for Comments; Clearance of a Renewed Approval of Information Collection: Renewal of AVIATOR (Automated Vacancy Information Access Tool for Online Referral) Customer Satisfaction Survey

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on February 2, 2021. Note, the publication is referenced under “OMB-0076” in error; it should have indicated “OMB-2120-0699”. The collection involves on-line, electronic applicant (customer) answers to standard survey questions. The questions are presented as multiple-choice selections and free-form text areas where applicants can choose their desired answer and, if they wish, add additional comments. The information to be collected will be used to and is necessary to gage the level of user satisfaction with the AVIATOR (Automated Vacancy Information Access Tool for Online Referral) system. Additionally, the surveys are used to obtain benchmarking and feedback to ensure quality.

DATES: Written comments should be submitted by October 28, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Toni Main-Valentin by email at: toni.main-valentin@faa.gov; phone: 405-954-0870.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0699.

Title: AVIATOR (Automated Vacancy Information Access Tool for Online Referral) Customer Satisfaction Survey.

Form Numbers: N/A (electronic).

Type of Review: Renewal of an information collection.

Background: The Federal Register Notice with a 60-day comment period soliciting comments on the following collection of information was published on February 2, 2021 (86 FR 7919). The Government Performance and Results Act of 1993 (GPRA) Section 2(b)(3) requires agencies to “improve Federal program effectiveness and public accountability by promoting a new focus on results, service quality, and customer satisfaction”. In addition, as stated in the White House “Memorandum for Heads of Executive Departments and Agencies” regarding Executive Order No. 12862, “the actions the order prescribes, such as surveying customers, surveying employees, and benchmarking, shall be continuing agency activities”. This collection supports the Department of Transportation (DOT) strategic goal of Organizational Excellence.

In compliance with the Government Paperwork Elimination Act (GPEA), all of our data collection will be 100% electronic using an online form; Applicants will be asked to complete the survey just before they exit the system. The AVIATOR Customer Satisfaction Survey is designed to identify potential problems with FAA's automated staffing solutions as well as to evaluate customer satisfaction with the on-line application process. The information is not gathered by any other collection. It will be difficult, if not impossible, to improve the AVIATOR system's overall performance and customer satisfaction without utilizing the survey as a performance measurement tool.

Respondents: 138,953 U.S. citizens, identified as applicants (from January 1, 2019 to December 31, 2019) applying for employment with the Federal Aviation Administration, had the opportunity to complete a survey. 9% (13,019) of applicants completed surveys during this time frame.

Frequency: On occasion/as interested.

Estimated Average Burden per Response: 3 minutes per response.

Estimated Total Annual Burden: 13,019 respondents × 0.05 (3/60) = 651 hours.

Issued in Washington, DC, on September 28, 2021.
Alpha O. Woodson-Smith,
Computer Scientist, Program Manager, Finance and Management (AFN), Information and Technology Services (AIT), Enterprise Program Management Service (AEM-320).

[FR Doc. 2021-21476 Filed 10-1-21; 8:45 am]

BILLING CODE 4910-13-P